DEPARTMENT OF HEALTH AND HUMAN SERVICES

Administration for Community Living

Agency Information Collection Activities; Proposed Collection; Comment Request; SHIP-SMP Survey of Group Outreach and Education Events, Formerly the “Senior Medicare Program National Beneficiary Survey”, OMB #0985-0056

AGENCY: Administration for Community Living, HHS.

ACTION: Notice.

SUMMARY: The Administration for Community Living (ACL) is announcing an opportunity for the public to comment on the proposed collection of information listed above. Under the Paperwork Reduction Act of 1995 (the PRA), Federal agencies are required to publish a notice in the Federal Register concerning each proposed collection of information, including each proposed extension of an existing collection of information, and to allow 60 days for public comment in response to the notice.

This notice solicits comments on the Proposed Revision and solicits comments on the information collection requirements related to the “National SHIP-SMP Beneficiary Survey of Group Outreach and Education Events”.

DATES: Comments on the collection of information must be submitted electronically by 11:59 p.m. (EST) or postmarked by February 28, 2020.

ADDRESSES: Submit electronic comments on the collection of information to: Sara Vogler. Submit written comments on the collection of information to Administration for Community Living, Washington, DC 20201, Attention: Sara Vogler.

FOR FURTHER INFORMATION CONTACT: Sara Vogler, Administration for Community Living, Washington, DC 20201, 202-795-7461, Sara.Vogler@acl.hhs.gov.

SUPPLEMENTARY INFORMATION: Under the PRA, Federal agencies must obtain approval from the Office of Management and Budget (OMB) for each collection of information they conduct or sponsor. “Collection of information” is defined in 44 U.S.C. 3502(3) and 5 CFR 1320.3(c) and includes agency requests or requirements that members of the public submit reports, keep records, or provide information to a third party.

The PRA requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including: (1) Whether the proposed collection of information is necessary for the proper performance of ACL's functions, including whether the information will have practical utility; (2) the accuracy of ACL's estimate of the burden of the proposed collection of information, including the validity of the methodology and assumptions used to determine burden estimates; (3) ways to enhance the quality, utility, and clarity of the information to be collected; and (4) ways to minimize the burden of the collection of information on respondents, including through the use of automated collection techniques when appropriate, and other forms of information technology.

The SHIP-SMP Survey of Group Outreach and Education Events is a survey of individuals who attend outreach and education events provided by the State Health Insurance Assistance Program (SHIP) or Senior Medicare Patrol (SMP). These events help Medicare beneficiaries understand their Medicare benefits and options. These events also increase the ability of beneficiaries to identify fraud, waste, and abuse within health care programs generally, and Medicare/Medicaid specifically.

The State Health Insurance Assistance Program (SHIP) was created under the Omnibus Budget Reconciliation Act of 1990. This section of the law authorized the Department of Health and Human Services (HHS) to make grants to states to establish and maintain health insurance advisory service programs for Medicare beneficiaries. Grant funds were made available to support information, counseling, and assistance activities related to Medicare, Medicaid, and other health insurance options.

The Senior Medicare Patrol (SMP) program was authorized in 1997 under Titles II and IV of the Older Americans Act, the Omnibus Consolidated Appropriation Act of 1997 and the Health Insurance Portability and Accountability Act of 1996. The SMP mission is to empower and assist Medicare beneficiaries, their families, and caregivers, to prevent, detect, and report suspected healthcare fraud, errors, and abuse through outreach, counseling, and education.

SMP grantees support ACL's goals of promoting increased choice and greater independence among older adults and individuals with disabilities. SMP activities enhance the financial, emotional, physical, and mental well-being of older adults, thereby increasing their capacity to maintain security in retirement and make better financial and healthcare choices.

SHIP-SMP grantees provide group outreach and education through presentation events, and this collection will survey the attendees of those events. The SHIP-SMP Survey of Group Outreach and Education Events will focus on group outreach and education events and the individuals who attend them, to determine if the target audience is satisfied with the information they are receiving. This is a renewal of the existing Senior Medicare Program National Beneficiary Survey, which received clearance on August 28, 2017, with ICR Reference Number 201702-0985-003 and OMB Control Number 0985-0056. That survey was conducted over a three-year period beginning on October 1, 2017, and will conclude on March 30, 2020. To date, the Senior Medicare Program National Beneficiary Survey has generated over 5000 responses, all of which were submitted anonymously and voluntarily.

ACL requests renewal of the survey to continue the collection performed in Fiscal Years 2018, 2019, and 2020. Reports developed for FY18 and FY19 participants have provided an overall measure of presentation attendee satisfaction and have provided insight into the relationship between presentation inputs (information provided, access to presentations) and overall satisfaction. The renewed survey will include both SHIP and SMP presentations and will survey every participating state and territory at least once each year.

To generate a sample with a 95% confidence level at the national level 400 responses will be required, which is based on over 500,000 group outreach and education event attendees in 2018. ACL will draw a representative sample of event attendees by surveying each of the 54 participating states and territories at least once. An average event surveyed in FY18 or FY19 generated 11 completed surveys, resulting in an estimated minimal collection of 600 responses.

In the first three years of the existing survey states and territories had the opportunity to exceed the minimum requirements, in order to collect a larger overall dataset for their state or territory. This opportunity will continue with the renewed survey. Assuming that an average state or territory collects 100 surveys per year, the maximum burden estimate is 5400 responses per year.

The proposed data collection tools may be found on the ACL website for review at https://www.acl.gov/about-acl/public-input.

Estimated Program Burden

ACL estimates the burden associated with this collection of information as follows:

Respondent/data collection activity | Number of respondents (minimum) | Responses per respondent | Hours per response | Annual burden hours
Survey, Stratified Random Sample | 600 | 1 | 5/60 | 50
Total | 600 | 1 | 5/60 | 50

Respondent/data collection activity | Number of respondents (maximum) | Responses per respondent | Hours per response | Annual burden hours
Survey, Stratified Random Sample | 5400 | 1 | 5/60 | 450
Total | 5400 | 1 | 5/60 | 450

Dated: December 19, 2019.
Mary Lazare,
Principal Deputy Administrator.

[FR Doc. 2019-28104 Filed 12-27-19; 8:45 am]

BILLING CODE 4154-01-P